DEPARTMENT OF AGRICULTURE

Food Safety and Inspection Service

[Docket No. 04-052N]

Codex Alimentarius Commission: Eleventh Session of the Codex Committee on Meat Hygiene

AGENCY: Food Safety and Inspection Service, USDA.

ACTION: Notice of public meeting, request for comments.

SUMMARY: The Office of the Under Secretary for Food Safety, United States Department of Agriculture (USDA), is sponsoring a public meeting on January 21, 2005, to provide information and receive public comments on agenda items that will be discussed at the Eleventh Session of the Codex Committee on Meat Hygiene (CCMH). The 11th Session of the CCMH will be held in Christchurch, New Zealand, February 14-18, 2005. The Acting Under Secretary recognizes the importance of providing interested parties the opportunity to obtain background information on the agenda items that will be discussed at this forthcoming session of the CCMH.

DATES: The public meeting is scheduled for Friday, January 21, 2005 from 2 p.m. to 4 p.m.

ADDRESSES: The public meeting will be held in Room 0161, South Agricultural Building, 1400 Independence Avenue, SW., Washington, DC 20250.

Documents related to the 11th Session of the CCMH will be accessible via the World Wide Web at the following address: http://www.codexalimentarius.net/current.asp.

FSIS invites interested persons to submit comments on this notice. Comments may be submitted by any of the following methods:

• Mail, including floppy disks or CD-ROMs, and hand- or courier-delivered items: Send to the FSIS Docket Clerk, U.S. Department of Agriculture, Food Safety and Inspection Service, 300 12th Street, SW., Room 102, Cotton Annex, Washington, DC 20730. All comments received must include the Agency name and docket number 04-052N.

• All comments submitted in response to this notice will be available for public inspection in the FSIS Docket Room at the address listed above between 8:30 a.m. and 4:30 p.m., Monday through Friday. The comments also will be posted on the Agency's Web site at http://www.fsis.usda.gov/regulations/2005_Notices_Index.

FOR FURTHER INFORMATION ABOUT THE 11th SESSION OF THE CCMH CONTACT: U.S. Delegate, Perfecto Santiago, DVM, Deputy Assistant Administrator, Office of Food Security and Emergency Preparedness, Room 3130, South Building, 1400 Independence Avenue, SW., Washington, DC 20250 perfecto.santiago@fsis.usda.gov.

FOR FURTHER INFORMATION ABOUT THE PUBLIC MEETING CONTACT: Edith Kennard, Codex Committee Analyst, U.S. Codex Office, FSIS, Room 4861, South Building, 1400 Independence Avenue SW., Washington, DC 20250-3700, Phone: (202) 720-5261, Fax: (202) 720-3157, e-mail: edith.kennard@fsis.usda.gov.

SUPPLEMENTARY INFORMATION:

Background

The Codex Alimentarius Commission (Codex) was established in 1962 by two United Nations organizations, the Food and Agriculture Organization (FAO) and the World Health Organization (WHO). Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Meat Hygiene (CCMH) elaborates worldwide standards and/or codes of practice as appropriate for meat hygiene. The Committee is chaired by New Zealand.

Issues To Be Discussed at the Public Meeting

The following items on the agenda for the 11th Session of CCMH will be discussed during the public meeting:

1. Matters referred from the Codex Alimentarius Commission and other Codex Committees.

2. Draft Code of Hygienic Practice for Meat.

Each issue listed will be fully described in documents distributed, or to be distributed, by the New Zealand Secretariat to the Meeting. Members of the public may access copies of these documents (see ADDRESSES).

Public Meeting

At the January 21, 2005 public meeting, these agenda items will be described, discussed, and attendees will have the opportunity to pose questions and offer comments. Written comments may be offered at the meeting or sent to the U.S. Delegate, for the 11th Session of the CCMH, Perfecto Santiago (see Addresses). Written comments should state that they relate to activities of the 11th Session of the CCMH.

Additional Public Information

Public awareness of all segments of rulemaking and policy development is important. Consequently, in an effort to ensure that the public and in particular minorities, women, and persons with disabilities are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the Web page, FSIS is able to provide information to a much broader, more diverse audience.

Done at Washington, DC on January 14, 2005.
F. Edward Scarbrough,
U.S. Manager for Codex Alimentarius.

[FR Doc. 05-1102 Filed 1-14-05; 12:36 pm]

BILLING CODE 3410-DM-P